DEPARTMENT OF ENERGY

Federal Energy Regulatory Commission

[Docket No. CP98-717-002]

El Paso Natural Gas Company; Notice of Application

January 8, 2003.

Take notice that on December 23, 2002, El Paso Natural Gas Company (El Paso), Post Office Box 1087, Colorado Springs, Colorado, 80944, in Docket No. CP98-717-002 filed a petition, pursuant to section 7(b) of the Natural Gas Act (NGA) and the Federal Energy Regulatory Commission's (Commission) rules and regulations, to further amend the orders issued on January 15, 1999 ¹, as amended on August 10, 2000_², at Docket Nos. CP98-717-000 and 001. El Paso seeks amended authorization to modify the method of abandonment for its 12-3/4” O.D. El Paso-Douglas Loop Line (“Line No. 1005”), all as more fully set forth in its petition which is on file with the Commission and open to public inspection. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

¹ See 86 FERC ¶ 61,042 (1999).

² See 92 FERC ¶ 62,127 (2000).

Any questions regarding El Paso's petition to amend should be directed to Mr. Robert T. Tomlinson, Director, Regulatory Affairs, El Paso Natural Gas Company, P.O. Box 1087, Colorado Springs, Colorado 80944 at (719) 520-3788 or by fax at (719) 667-7534.

El Paso states that by order issued January 15, 1999, at Docket No. CP98-717-000, the Commission granted El Paso authorization for the abandonment, by removal, to the extent practicable, of three segments, totaling approximately 49.16 miles, of El Paso's 12-3/4” O.D. El Paso-Douglas Loop Line (“Line No. 1005”), with appurtenances, located in Dona Ana and Luna Counties, New Mexico. Subsequently, on March 28, 2000, El Paso filed an application at Docket No. CP98-717-001 requesting amended authorization to abandon the facilities granted by the January 15, 1999, order. Specifically, El Paso sought Commission authorization to abandon approximately 44 miles of Line No. 1005 by transfer to El Paso Energy Communications Company (“EPECC”) for use as conduit for fiber optic cable, with the remaining 5.16 miles to be abandoned in place. Thereafter, on August 10, 2000, the Commission granted El Paso authority to amend its certificate at Docket No. CP98-717-001.

El Paso explains that although the Commission approved its amended application on August 10, 2000, El Paso has been unable to consummate the conveyance of the approximate 44 miles of Line No. 1005 to EPECC due to the suspension of EPECC's fiber optic expansion plans. Therefore, EPECC is no longer desirous of acquiring the 44 miles of Line No. 1005 from El Paso. Based on this change in circumstances, El Paso no longer intends to convey the 44-mile segment of Line No. 1005 and, instead, now desires to abandon the entire 49.16 miles of Line No. 1005 in place. Accordingly, El Paso is seeking to amend the January 15, 1999, order, as amended, modifying El Paso's method of abandonment of Line No. 1005 from abandonment by transfer to abandonment in place.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: January 29, 2003.

Magalie R. Salas,
Secretary.

[FR Doc. 03-744 Filed 1-13-03; 8:45 am]

BILLING CODE 6717-01-P